DEPARTMENT OF HOMELAND SECURITY

[Docket No. CISA-2021-0021]

Notice of President's National Security Telecommunications Advisory Committee Meeting

AGENCY: Cybersecurity and Infrastructure Security Agency (CISA), Department of Homeland Security (DHS).

ACTION: Notice of Federal Advisory Committee Act (FACA) meeting; request for comments.

SUMMARY: CISA is publishing this notice to announce the following President's National Security Telecommunications Advisory Committee (NSTAC) meeting. This meeting will be open to the public.

DATES:

Meeting Registration: Registration to attend the meeting is required and must be received no later than 5:00 p.m. Eastern Time (ET) on February 21, 2022. For more information on how to participate, please contact NSTAC@cisa.dhs.gov.

Speaker Registration: Registration to speak during the meeting's public comment period must be received no later than 5:00 p.m. ET on February 21, 2022.

Written Comments: Written comments must be received no later than 5:00 p.m. ET on February 21, 2022.

Meeting Date: The NSTAC will meet on February 23, 2022, from 2:00 p.m. to 3:00 p.m. ET. The meeting may close early if the committee has completed its business.

ADDRESSES: The meeting will be held via conference call. For access to the conference call bridge, information on services for individuals with disabilities, or to request special assistance, please email NSTAC@cisa.dhs.gov by 5:00 p.m. ET on February 21, 2022.

Comments: Members of the public are invited to provide comment on the issues that will be considered by the committee as listed in the SUPPLEMENTARY INFORMATION section below. Associated materials that may be discussed during the meeting will be made available for review at https://www.cisa.gov/nstac on February 10, 2022. Comments may be submitted by 5:00 p.m. ET on February 21, 2022 and must be identified by Docket Number CISA-2021-0021. Comments may be submitted by one of the following methods:

• Federal eRulemaking Portal: www.regulations.gov. Please follow the instructions for submitting written comments.

• Email: NSTAC@cisa.dhs.gov. Include the Docket Number CISA-2021-0021 in the subject line of the email.

Instructions: All submissions received must include the words “Department of Homeland Security” and the Docket Number for this action. Comments received will be posted without alteration to www.regulations.gov, including any personal information provided.

Docket: For access to the docket and comments received by the NSTAC, please go to www.regulations.gov and enter docket number CISA-2021-0021.

A public comment period is scheduled to be held during the meeting from 2:25 p.m. to 2:35 p.m. ET. Speakers who wish to participate in the public comment period must email NSTAC@cisa.dhs.gov to register. Speakers should limit their comments to three minutes and will speak in order of registration. Please note that the public comment period may end before the time indicated, following the last request for comments.

FOR FURTHER INFORMATION CONTACT: Rachel Liang, 202-963-8300, NSTAC@cisa.dhs.gov.

SUPPLEMENTARY INFORMATION: The NSTAC is established under the authority of Executive Order (E.O.) 12382, dated September 13, 1982, as amended by E.O. 13286, continued and amended under the authority of E.O. 14048, dated September 30, 2021. Notice of this meeting is given under FACA, 5 U.S.C. Appendix (Pub. L. 92-463). The NSTAC advises the President on matters related to national security and emergency preparedness (NS/EP) telecommunications and cybersecurity policy.

Agenda: The NSTAC will hold a conference call on Wednesday, February 23, 2022, to discuss current NSTAC activities and the Government's ongoing cybersecurity and NS/EP communications initiatives. Since the November 2021 NSTAC Meeting, the NSTAC has been tasked with developing a study focused on enhancing U.S. competitiveness in international standards. The study will focus on how government and industry work together to preserve the widespread use of the industry-driven model and at the same time enhance U.S. competitiveness and provide recommendations on how to ensure security in global standards. The tasking and associated letter will be discussed during the February 2022 conference call. This meeting is open to the public and will include: (1) Remarks from the Administration and CISA leadership on salient NS/EP and cybersecurity efforts; (2) a status update from the NSTAC Information Technology and Operational Technology Convergence Subcommittee; (3) a deliberation and vote on the NSTAC Report to the President on Zero-Trust and Trusted Identity Management; and (4) a discussion on the new tasking on international standards.

Rachel Liang,
Alternate Designated Federal Officer, NSTAC, Cybersecurity and Infrastructure Security Agency, Department of Homeland Security.

[FR Doc. 2022-00278 Filed 1-10-22; 8:45 am]

BILLING CODE 9110-9P-P